DEPARTMENT OF COMMERCE

Bureau of Industry and Security

Emerging Technology and Research Advisory Committee; Notice of Open Meeting

The Emerging Technology and Research Advisory Committee (ETRAC) will meet on October 11, 2012, 8:30 a.m., Room 6087B, at the Herbert C. Hoover Building, 14th Street between Pennsylvania and Constitution Avenues NW., Washington, DC. The Committee advises the Office of the Assistant Secretary for Export Administration on emerging technology and research activities, including those related to deemed exports.

Agenda

Thursday, October 11

Open Session

1. Co-chairman's opening comments, Committee Introductions

2. Housekeeping/Elections and Open Call for New Members

3. Update and discussion with BIS on FY13 plans

4. Presentation from State Department on Wassenaar “USE” redefinition

5. Committee discussion of Deemed Export language to address redefinition of “USE”

6. Public Comments, Suggestions

7. DARPA

8. OSTP on Dual-Use Research of Concern and implications for the deemed export rule. The open session will be accessible via teleconference to 20 participants on a first come, first serve basis. To the conference, submit inquiries to Ms. Yvette Springer at Yvette.Springer@bis.doc.gov, no later than October 4, 2012.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: September 21, 2012.
Yvette Springer,
Committee Liaison Officer.

[FR Doc. 2012-23754 Filed 9-26-12; 8:45 am]

BILLING CODE 3510-JT-P